DEPARTMENT OF STATE

[Public Notice 7921]

Waiver of Restriction on Assistance to the Central Government of Chad

Pursuant to Section 7086(c)(2) of the Department of State, Foreign Operations, and Related Programs Appropriations Act, 2010 (Div. F, Pub. L.111-117) as carried forward by the Full-Year Continuing Appropriations Act, 2011 (Div. B, Pub. L. 112-10) (“the Act”), and Department of State Delegation of Authority Number 245-1, I hereby determine that it is important to the national interest of the United States to waive the requirements of Section 7086(c)(1) of the Act with respect to Chad and I hereby waive such restriction.

This determination shall be reported to the Congress, and published in the Federal Register.

Dated: July 29, 2011.
Thomas Nides,
Deputy Secretary of State for Management and Resources .

[FR Doc. 2011-25455 Filed 9-30-11; 8:45 am]

BILLING CODE 4710-26-P